COMMODITY FUTURES TRADING COMMISSION

17 CFR Part 43

RIN 3038-AD08

Real-Time Public Reporting of Swap Transaction Data

AGENCY: Commodity Futures Trading Commission.

ACTION: Final rule; correction.

SUMMARY: This document corrects language in the final rule published in the Federal Register of Monday, January 9, 2012, regarding the Real-Time Public Reporting of Swap Transaction Data. The Commission adopted rules to implement a framework for the real-time public reporting of swap transaction and pricing data for all swap transactions.

DATES: Effective March 9, 2012.

FOR FURTHER INFORMATION CONTACT: Jeffrey L. Steiner, Special Counsel, Division of Market Oversight (“DMO”), at (202) 418-5482 or jsteiner@cftc.gov; or Susan Nathan, Senior Special Counsel, DMO, at (202) 418-5133 or snathan@cftc.gov.

Correction

In the final rule, FR Doc. 2011-33173, on page 1228 in the issue of Monday, January 9, 2012, the following correction is made:

On page 1228 in the middle column, beginning on the twelfth line from the top, the text “(1) July 16, 2012 of this Adopting Release in the Federal Register,” is corrected to read “(1) July 16, 2012,”.

Dated: January 13, 2012.
David A. Stawick,
Secretary of the Commission.

[FR Doc. 2012-1031 Filed 1-19-12; 8:45 am]

BILLING CODE P